DEPARTMENT OF THE INTERIOR

Fish and Wildlife Service

Information Collection Sent to the Office of Management and Budget (OMB) for Approval; National Wildlife Refuge System Evaluation: Surveys of State Agencies, Indian Tribes, and Local Partners

AGENCY: Fish and Wildlife Service, Interior.

ACTION: Notice; request for comments.

SUMMARY: We (Fish and Wildlife Service) have sent an Information Collection Request (ICR) to OMB for review and approval. The ICR, which is summarized below, describes the nature of the collection and the estimated burden and cost. We may not conduct or sponsor and a person is not required to respond to a collection of information unless it displays a currently valid OMB control number.

DATES: You must submit comments on or before December 14, 2007.

ADDRESSES: Send your comments and suggestions on this ICR to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request additional information about this ICR, contact Hope Grey by mail, fax, or e-mail (see ADDRESSES) or by telephone at (703) 358-2482.

SUPPLEMENTARY INFORMATION: OMB Control Number: None. This is a new collection.

Title: National Wildlife Refuge System Evaluation: Surveys of State Agencies, Indian Tribes, and Local Partners.

Service Form Number(s): None.

Type of Request: New collection.

Affected Public: Organizations that collaborate with national wildlife refuges, including, but not limited to, State fish and wildlife agencies, volunteer groups, local and national conservation organizations, hunting and fishing groups, and other civic organizations.

Respondent's Obligation: Voluntary.

Frequency of Collection: One time.

Activity | Number of annual respondents | Number of annual responses | Completion time per response | Annual burden hours
Local Partner Survey | 400 | 320 | 20 minutes | 107
State/Indian Tribe Survey | 150 | 120 | 20 minutes | 40
Totals | 550 | 440 |  | 147

Abstract:

We have contracted with Management Systems International to perform an independent evaluation of the National Wildlife Refuge System (NWRS). Although the NWRS has existed for more than 100 years, it has never undergone an independent evaluation of its overall effectiveness in achieving its conservation mission. We are now seeking such an evaluation to identify program strengths and weaknesses, as well as gaps in performance information. Such evaluations are an important element of the OMB Program Assessment Rating Tool (PART) assessments, and this evaluation will satisfy the PART requirements. The evaluation includes two data collection components involving the public:

(1) An online survey of local partners (e.g., volunteer groups, local conservation organizations, hunting and fishing groups, and other civic organizations).

(2) An online survey of Indian tribes and State fish and wildlife agency officials.

The perspective and observations of NWRS partners are critical to fully understand the issues and questions that the independent evaluation will explore. The surveys will collect data in two broad categories:

(1) The quality of NWRS partnerships with external organizations, and

(2) Partnering organizations' views as to the effectiveness of the NWRS in achieving NWRS objectives.

Comments: On February 22, 2007, we published in the Federal Register a notice (72 FR 8004) of our intent to request that OMB renew approval for this information collection. In that notice, we solicited comments for 60-days, ending on April 23, 2007. We received three comments that are summarized below.

Comment #1: Individual questions if: (1) the evaluation team assembled has the required expertise to conduct a sound and independent evaluation; (2) the partners identified will be able to provide responses indicative of the American public and not be hand picked to provide glowing reports; and (3) the information collection is necessary and requests a copy of the survey instrument.

Response: We provided a copy of the draft survey instrument to this individual as well as a link to Management System International's website so that biographical information of MSI technical staff could be accessed.

Comment #2: The individual (same from Comment #1 above) acknowledges receipt of the survey instrument and then states that MSI does not have the proper experience to conduct this evaluation. The individual also states that hunting programs receive a disproportionate amount of attention in the NWRS given the wider U.S. public.

Response: Since 1995, MSI has been approved by the General Services Administration (GSA) to provide management related contracting services to Federal agencies under the Mission Oriented Business Integrated Services (MOBIS) contract and also has significant experience conducting evaluations for Federal agencies. MOBIS contractors offer a full range of management and consulting services that can improve a Federal agency's performance and their endeavor in meeting mission goals. MOBIS contractors possess the necessary expertise to facilitate how the Federal Government responds to a continuous stream of new mandates and evolutionary influences including the President's Management Agenda; Government Performance and Results Act; Federal Acquisition Streamlining Act; OMB Circular A-76; Federal Activities Inventory Reform Act; and government reinvention initiatives such as benchmarking and streamlining.

MSI will be investigating refuge usage of the six wildlife-dependent activities. These activities include hunting, fishing, environmental education, environmental interpretation, wildlife viewing and nature photography. These issues will be explored in terms of their fit with the NWRS's mission and mandates and the quality of the programs provided.

Comment #3: Individual states that the public groups identified as partners and stakeholders (including volunteer groups, local and national conservation organizations, nonprofit organizations, and State fish and game officials) that are to be included in the broader evaluation data collection efforts exclude an important group, Indian tribes. The individual volunteers that the tribe (s)he represents be included in the evaluation survey.

Response: Indian tribes are important stakeholders and partners to the NWRS. We will include Indian tribes in the online survey and intend to collect information in such a way that will enable us to disaggregate responses by representatives of tribes. This will enable the evaluation team to analyze the satisfaction levels of tribes in interacting with the NWRS and, as appropriate, provide a process to explore ways to improve the working relationship between tribes and the NWRS.

We again invite comments concerning this information collection on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: August 22, 2007
Hope Grey,
Information Collection Clearance Officer, Fish and Wildlife Service.

FR Doc. E7-22202 Filed 11-13-07; 8:45 am

Billing Code 4310-55-S